ENVIRONMENTAL PROTECTION AGENCY

[EPA-HQ-OPP-2009-1017; FRL-8822-4]

Product Cancellation Order for Certain Pesticide Registrations

AGENCY: Environmental Protection Agency (EPA).

ACTION: Notice.

SUMMARY: This notice announces EPA's order for the cancellations, voluntarily requested by the registrants and accepted by the Agency, of the products listed in Table 1, pursuant to section 6(f)(1) of the Federal Insecticide, Fungicide, and Rodenticide Act (FIFRA), as amended. This cancellation order follows a February 3, 2010 Federal Register Notice of Receipt of Requests from the registrants listed in Table 2 to voluntarily cancel these product registrations. In the February 3, 2010 Notice, EPA indicated that it would issue an order implementing the cancellations unless the Agency received substantive comments within the 30-day comment period that would merit its further review of these requests or unless the registrants withdrew their requests. The Agency received comments on the notice but none merited its further review of the requests. The registrants did not withdraw their requests. Accordingly, EPA hereby issues in this notice a cancellation order granting the requested cancellations. Any distribution, sale, or use of the products subject to this cancellation order is permitted only in accordance with the terms of this order, including any existing stocks provisions.

DATES: The cancellations are effective May 11, 2010.

FOR FURTHER INFORMATION CONTACT: Maia Tatinclaux, Pesticide Re-evaluation Division (7508P), Office of Pesticide Programs, Environmental Protection Agency, 1200 Pennsylvania Ave., NW., Washington, DC 20460-0001; telephone number: (703) 347-0123; fax number: (703) 308-8090; e-mail address: tatinclaux.maia@epa.gov.

SUPPLEMENTARY INFORMATION:

I. General Information

A. Does this Action Apply to Me?

This action is directed to the public in general and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2009-1017. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the cancellation, as requested by registrants, of products registered under section 3 of FIFRA. These registrations are listed in sequence by registration number in Table 1, below.

Table 1.—Product Cancellations
EPA Registration No. | Product Name | Chemical Name
000004-00370 | Bonide Carpet Dust | Piperonyl Butoxide Pyrethrins
000070-00152 | Kill-Ko Fly & Mosquito Insect Killer | Piperonyl Butoxide Pyrethrins MGK 264
000070-00202 | Kill-Ko Premise Spray | Piperonyl Butoxide Pyrethrins
000070-00276 | Rigo Aqueous Garden Spray | Piperonyl Butoxide Pyrethrins
000070-00281 | Rigo General Purpose Aqueous Insecticide | Piperonyl Butoxide Pyrethrins
000070-00297 | Rigo's Best Flea &Tick Spray | Permethrin Pyrethrins
000070-00298 | Rigo's Best Tick &Flea Dip | Piperonyl Butoxide Pyrethrins MGK 264
000070-00299 | Rigo's Best Flea &Tick Dip | Permethrin MGK 264
000088-00024 | Hyponex Bug Spray for House Plants | Pyrethrins Piperonyl Butoxide
000192-00096 | Dexol Malathion Insect Control | Malathion
000192-00144 | Dexol Vegetable Garden Insect Spray | Piperonyl Butoxide Pyrethrins
000192-00170 | Dexol Carpet Dust | Piperonyl Butoxide Pyrethrins
000192-00181 | Dexol House Insect Control Mother Nature's Brand | Piperonyl Butoxide Pyrethrins
000192-00185 | Dexol Indoor Insect Fogger II | Pyrethrins MGK 264 Permethrin
000192-00186 | Dexol Ant, Roach, & Spider Spray | Pyrethrins MGK 264 Permethrin
000192-00197 | Dexol Flea Free Fogger | Pyrethrins MGK 264 Permethrin Pyriproxyfen
000192-00203 | Dexol Hornet & Wasp Killer 3 | Piperonyl Butoxide Permethrin
000239-02429 | Ortho High Power Indoor Insect Fogger | Pyrethrins Piperonyl Butoxide MGK 264
000239-02498 | Ortho Rose & Flower Insect Killer | Pyrethrins Piperonyl Butoxide
000239-02527 | Ortho Pet Flea & Tick Spray | Pyrethrins Piperonyl Butoxide
000239-02536 | Ortho Pet Flea & Tick Spray Formula II | Pyrethrins Piperonyl Butoxide
000239-02565 | Ortho Pet Shampoo | Pyrethrins Piperonyl Butoxide
000239-02566 | Ortho Pet Flea & Tick Powder | Pyrethrins Piperonyl Butoxide
000239-02567 | Flea-B-Gon Carpet Dust | Pyrethrins Piperonyl Butoxide
000239-02624 | Hi-Power Indoor Insect Fogger Formula V | Pyrethrins Piperonyl Butoxide MGK 264 Esfenvalerate
000239-02676 | Flea-B-Gon Total Fogger | Pyrethrins MGK 264 Permethrins Pyriproxyfen
000239-02678 | Ortho Ant Killer Spray | Pyrethrins MGK 264 Permethrins
000270-00030 | Farnam Repel X Fly Spray Concentrate | Piperonyl Butoxide Pyrethrins
000270-00110 | Farnam Super Swat Fly Repellent | Piperonyl Butoxide Pyrethrins MGK 264
000270-00168 | Farnam Mite-X | Piperonyl Butoxide Pyrethrins
000270-00172 | Farnam Water Base Fly Repel | Piperonyl Butoxide Pyrethrins
000270-00265 | Purina Animal Shampoo | Piperonyl Butoxide Pyrethrins
000270-00274 | TPC Equi-Spray “N” Wipe | Piperonyl Butoxide Pyrethrins
000270-00275 | Equi-Dust | Piperonyl Butoxide Pyrethrins
000270-00297 | Farnam IGR Fogger 301 | Pyrethrins MGK 264 Permethrins Pyriproxyfen
000270-00330 | Farnam B736 Insecticide | Piperonyl Butoxide Permethrin
000270-00332 | Sulfodene Scratchex Flea and Tick Shampoo for Dogs and Cats | Piperonyl Butoxide Pyrethrins MGK 264
000270-00333 | Sulfodene Scratchex Flea & Tick Shampoo II | Piperonyl Butoxide Pyrethrins MGK 264
000270-00334 | Sulfodene Scratchex Power Dip | Piperonyl Butoxide Pyrethrins MGK 264
000270-00335 | Sulfodene Scratchex Flea and Tick Spray for Dogs and Cats | Pyrethrins Permethrin
000270-00336 | Sulfodene Scratchex Flea and Tick Killer for Dogs and Cats | Pyrethrins Permethrin
000270-00337 | Sulfodene Scratchex Flea & Tick Shampoo-B for Dogs & Cats | Piperonyl Butoxide MGK 264
000270-00338 | Sulfodene Scratchex Formula 36 Power Dip | Piperonyl Butoxide MGK 264
000270-00340 | Adams Flea and Tick Mist II | Piperonyl Butoxide Pyrethrins MGK 264
000270-00341 | Adams Flea and Tick Shampoo | Piperonyl Butoxide Pyrethrins MGK 264
000270-00350 | Adams Animal Repellent Concentrate | Piperonyl Butoxide Pyrethrins MGK 264 Permethrin
000270-00355 | Mycodex Premise Control Room Fogger | Pyrethrins MGK 264 Permethrins Pyriproxyfen
000270-00357 | Redline Flea and Tick Mist | Piperonyl Butoxide Pyrethrins MGK 264
000270-00358 | Adams Flea and Tick Mist with Nylar | Piperonyl Butoxide Pyrethrins MGK 264
000270-00359 | Mycodex Fastact WP Flea & Tick Spray with Nylar Mycodex All-In-One | Piperonyl Butoxide Pyrethrins MGK 264
000270-00360 | Mycodex Pet Shampoo with Pyrethrins | Piperonyl Butoxide Pyrethrins
000270-00362 | Mycodex Pet Shampoo with Allethrin | Piperonyl Butoxide
000270-00363 | Mycodex Aqua-Spray with Pyrethrins | Piperonyl Butoxide Pyrethrins
000270-00364 | Adams Gold Flea and Tick Shampoo | Piperonyl Butoxide Pyrethrins
000270-00366 | Mycodex “14” Pet Spray | Piperonyl Butoxide Pyrethrins Permethrin
000305-00060 | Repel Permanone RTU | Permethrin
000432-00611 | 3-6-10 Fogging Concentrate | Piperonyl Butoxide Pyrethrins MGK 264
000432-00685 | Ultratec Insecticide W/PYR./Piperonyl Butoxide TRANS. E.D.C. 2.25+22.5% | Piperonyl Butoxide Pyrethrins
000432-00688 | Pyrethrins/Piperonyl Butoxide Transparent Emulsion Spray 0.1%+1.0% | Piperonyl Butoxide Pyrethrins
000432-00769 | Alleviate Plus Insecticide | Piperonyl Butoxide Pyrethrins
000432-00880 | Pyrenone Mushroom Fogging Insecticide | Piperonyl Butoxide Pyrethrins
000432-00884 | DP210 Professional Insecticide | Pyrethrins Deltamethrin
000432-00986 | Mosquito Spray Concentrate | Piperonyl Butoxide Pyrethrins
000432-01023 | Mosquito Fogging Spray | Piperonyl Butoxide Pyrethrins
000432-01029 | Pyrenone 1-0.2 Food Plant Spray | Piperonyl Butoxide Pyrethrins
000432-01051 | Aqueous Food Plant Pyrenone Fogging Insecticide | Piperonyl Butoxide Pyrethrins
000432-01056 | Pyrenone Stabilene Horse Insecticide Concentrate | Piperonyl Butoxide Pyrethrins
000432-01057 | Pyrenone Food Plant Fogging Insecticide | Piperonyl Butoxide Pyrethrins
000432-01060 | Pyrenone 7.5-0.75 Stabilene 53% E.C. | Piperonyl Butoxide Pyrethrins
000432-01068 | M.A.G. 3-6-10 | Piperonyl Butoxide Pyrethrins MGK 264
000432-01072 | Pyrenone M.A.G.C. 5-1 | Piperonyl Butoxide Pyrethrins
000432-01073 | Pyrenone M.A.G.C. 12.5-2.5 | Piperonyl Butoxide Pyrethrins
000432-01074 | Pyrenone MAGC 10-3.34 | Piperonyl Butoxide Pyrethrins
000432-01081 | Alleviate Industrial Spray E.C. | Piperonyl Butoxide
000432-01085 | Alleviate Stabilene Horse Insecticide | Piperonyl Butoxide
000432-01091 | Pyrenone Multi-Purpose Aqueous 30-3 | Piperonyl Butoxide Pyrethrins
000432-01092 | Pyrenone Aqueous 30-3 | Piperonyl Butoxide Pyrethrins
000432-01099 | Turf Pest Diagnostic Aid | Piperonyl Butoxide Pyrethrins
000432-01121 | Pyrenone Aqueous Space Spray | Piperonyl Butoxide Pyrethrins
000432-01144 | Pyrenone 25-2.5 W.P. | Piperonyl Butoxide Pyrethrins
000432-01154 | Butacide PS E.C. | Piperonyl Butoxide
000432-01233 | Skeeter-Mite 150-750 ULV | Piperonyl Butoxide Permethrin
000432-01234 | Skeeter-Mite 300-1500 ULV | Piperonyl Butoxide Permethrin
000432-01236 | Omen 50-50 | Piperonyl Butoxide Permethrin
000432-01249 | Pyrenone 32-4 | Piperonyl Butoxide Pyrethrins
000432-01319 | Laser Flying Insect Killer | Piperonyl Butoxide MGK 264
000432-01320 | Laser Ant & Roach Killer | Piperonyl Butoxide Pyrethrins
000432-01321 | Laser House & Garden Insect Killer | Piperonyl Butoxide MGK 264
000432-01322 | Laser Room Fogger | Piperonyl Butoxide Pyrethrins MGK 264
000432-01324 | Laser Liquid Ant & Roach Killer Pump Spray | Piperonyl Butoxide Pyrethrins
000478-00045 | Rose & Garden Insect Spray Concentrate | Pyrethrins Piperonyl Butoxide
000478-00046 | Real Kill Rose & Garden Insect Spray | Pyrethrins Piperonyl Butoxide
000498-00135 | Chase-MM Flea Killer | Piperonyl Butoxide Pyrethrins
000498-00150 | Spraypack Flying & Crawling Insect Killer | Pyrethrins MGK 264 Permethrin
000498-00161 | Spraypak Indoor Insect Fogger Formula 4 | Piperonyl Butoxide Pyrethrins Permethrin
000498-00162 | Spraypak Indoor Insect Fogger Formula 5 | Piperonyl Butoxide Pyrethrins Permethrin
000498-00163 | Spraypak Indoor Insect Fogger Formula 6 | Piperonyl Butoxide Permethrin
000498-00171 | Spraypack Flying & Crawling Insect Killer, Formula 3 | Pyrethrins MGK 264 Permethrin
000498-00172 | Spraypack Indoor Insect Fogger with Insect Growth Regulator | Pyrethrins MGK 264 Permethrins Pyriproxyfen
000498-00173 | Spraypak Crawling Insect Killer Formula 3 | Piperonyl Butoxide Pyrethrins Permethrin
000498-00185 | Champion Sprayon Wasp Hornet Killer Formula 2 | Piperonyl Butoxide Permethrin
000498-00189 | Kill Zone Flea and Tick Killer 2000 | Piperonyl Butoxide Pyrethrins Permethrin
000499-00231 | Whitmire Flea Foam PT-11 | Piperonyl Butoxide Pyrethrins MGK 264
000499-00233 | Whitmire PT 170 X-CLUDE | Piperonyl Butoxide Pyrethrins MGK 264
000499-00235 | Whitmire PT 170A X-CLUDE | Piperonyl Butoxide Pyrethrins MGK 264
000499-00238 | Whitmire PT 12A X-CLUDE | Piperonyl Butoxide Pyrethrins MGK 264
000499-00265 | Whitmire X-CLUDE Manufacturing Use Concentrate | Piperonyl Butoxide Pyrethrins MGK 264
000499-00325 | Whitmire Flys-Off II Permethrin | Permethrin
000499-00331 | Whitmire PT 21 H Dairy and Farm Insect Fogger | Piperonyl Butoxide Permethrin
000499-00378 | Whitmire PT 150 XLO Pyrethrum Contact Insecticide | Piperonyl Butoxide Pyrethrins
000499-00411 | Whitmire AERO-CIDE PT 3-6-10 XLO Pyrethrum Contact Insecticide | Piperonyl Butoxide Pyrethrins MGK 264
000499-00427 | Whitmire PT 3-6-10C Aerocide Pyrethrin Concentrate | Piperonyl Butoxide Pyrethrins MGK 264
000499-00446 | Whitmire TC 152 | Permethrin
000499-00483 | TC 179 | Piperonyl Butoxide Permethrin
000499-00490 | Prescription Treatment Brand TC ES Contact Insecticide | Piperonyl Butoxide Pyrethrins MGK 264
000499-00494 | TC 230 | Piperonyl Butoxide Pyrethrins MGK 264
000499-00499 | Whitmire MICRO-GEN TC-236 | Piperonyl Butoxide Pyrethrins MGK 264
000506-00166 | TAT Roach & Ant Kill | Permethrin Pyrethrins MGK 264
000572-00278 | Rockland Super Kill Insecticide Spray | Piperonyl Butoxide Pyrethrins
000655-00029 | Prentox Pyronyl Roach Spray Concentrate | Piperonyl Butoxide Pyrethrins
000655-00030 | Prentox Pyronyl 20 Concentrate | Piperonyl Butoxide Pyrethrins
000655-00043 | Prentox Pyronyl 101 Emulsion Concentrate | Piperonyl Butoxide Pyrethrins
000655-00061 | Prentox Pyronyl 20-8 Oil Concentrate | Piperonyl Butoxide Pyrethrins
000655-00062 | Prentox Pyronyl 40-5 Oil Concentrate | Piperonyl Butoxide Pyrethrins
000655-00073 | Prentox Pyronyl 66-6 Oil Concentrate | Piperonyl Butoxide Pyrethrins
000655-00112 | Prentox Pyronyl KD Concentrate | Piperonyl Butoxide Pyrethrins
000655-00120 | Prentox Pyronyl Oil Concentrate NO. 101 | Piperonyl Butoxide Pyrethrins
000655-00152 | Prentox Pyronyl 30-6 Oil Concentrate | Piperonyl Butoxide Pyrethrins
000655-00217 | Prentox Pyronyl 50-10 Oil Concentrate | Piperonyl Butoxide Pyrethrins
000655-00310 | Prentox Malathion 95% Technical Premium | Malathion
000655-00332 | Prentox Pyronyl 50-5 Aerosol Concentrate | Piperonyl Butoxide Pyrethrins
000655-00406 | Prentox Pyronyl 5-18-10 WBA Concentrate | Piperonyl Butoxide MGK 264
000655-00421 | Prentox Synpren-Fish Toxicant | Piperonyl Butoxide
000655-00450 | Prentox Pyronyl Oil Concentrate #3610 | Piperonyl Butoxide MGK 264
000655-00492 | Prentox Vapon 20% Emulsifiable Concentrate | Dichlorvos (DDVP)
000655-00509 | Prentox Insect Spray “A” | Piperonyl Butoxide MGK 264
000655-00511 | Prentox Fogging Concentrate #1 | Piperonyl Butoxide MGK 264
000655-00513 | Prentox Insect Spray “B” | Piperonyl Butoxide MGK 264
000655-00549 | Prentox Malathion W-25 | Malathion
000655-00551 | Prentox 5% Malathion Dust | Malathion
000655-00582 | Prentox Pyronyl Fly Spray | Piperonyl Butoxide Pyrethrins
000655-00598 | Prentox Malathion 50% Emulsifiable Insecticide | Malathion
000655-00604 | Prentox Mosquito Fogging Concentrate F-103 | Piperonyl Butoxide Pyrethrins
000655-00609 | Prentox Grain Protectant Dust NO. 101 | Piperonyl Butoxide Pyrethrins
000655-00612 | Prentox Insect Fogging Spray Concentrate F-102 | Piperonyl Butoxide Pyrethrins
000655-00621 | Prentox Home & Garden Bug Killer | Piperonyl Butoxide MGK 264
000655-00664 | Prentox Pyronyl Oil Concentrate #12294 | Piperonyl Butoxide MGK 264
000655-00666 | Prentox TFL Killer | Piperonyl Butoxide Pyrethrins
000655-00675 | Prentox Pyronyl Fogging & Contact Spray | Piperonyl Butoxide MGK 264
000655-00683 | Prentox Pyronyl Oil Concentrate #15A | Piperonyl Butoxide Pyrethrins
000655-00684 | Prentox Pyronyl Oil Concentrate #15 | Piperonyl Butoxide Pyrethrins
000655-00692 | Prentox Vapon 4E | Dichlorvos (DDVP)
000655-00694 | Prentox Pyronyl Livestock & Dairy Spray | Piperonyl Butoxide Pyrethrins
000655-00702 | Prentox Fogger Oil and Dairy Spray | Dichlorvos (DDVP)
000655-00734 | Prentox Pyronyl Equine Insect Repellent Concentrate | Piperonyl Butoxide Pyrethrins
000655-00772 | Prentox Pyronyl Insect Spray and Fogging Concentrate #2 | Piperonyl Butoxide MGK 264
000655-00775 | Prentox Pyronyl Spray Concentrate 0.62% | Piperonyl Butoxide Pyrethrins
000655-00785 | Prentox Pyronyl Oil Concentrate 125-25 | Piperonyl Butoxide Pyrethrins
000655-00800 | Prentox Flea, Tick and Roach Control | Piperonyl Butoxide Pyrethrins
000655-00804 | Nusyn - Noxfish Fish Toxicant | Piperonyl Butoxide
000655-00810 | Prentox Pyronyl Mosquito Adulticide #6012 | Piperonyl Butoxide Pyrethrins
000769-00221 | Suregard Grain Protectant Dust (1%) | Malathion
000769-00572 | Malathion Spray | Malathion
000769-00585 | R & M Floral & Vegetable Spray #1 | Piperonyl Butoxide Pyrethrins
000769-00596 | Sureco Flea & Tick Shampoo #4 | Piperonyl Butoxide Pyrethrins
000769-00597 | R & M Flea & Tick Shampoo #5 | Piperonyl Butoxide Pyrethrins
000769-00600 | R & M Carpet Powder #1 | Piperonyl Butoxide Pyrethrins
000769-00601 | R & M Carpet Powder #2 | Piperonyl Butoxide Pyrethrins
000769-00602 | R & M Carpet Powder #3 | Piperonyl Butoxide Pyrethrins
000769-00608 | R & M Aqueous Flea & Tick Spray #3 | Piperonyl Butoxide Pyrethrins
000769-00610 | R & M Pyrethrin Powder | Piperonyl Butoxide Pyrethrins
000769-00616 | Sureco Flea & Tick Spray #7 | Pyrethrins Piperonyl Butoxide MGK 264
000769-00620 | SMCP Malathion 57% Premium Grade | Malathion
000769-00621 | SMCP Malathion EM-5 | Malathion
000769-00623 | Special Outdoor Fly Kil Insect Killer | Pyrethrins Piperonyl Butoxide
000769-00649 | SMCP Emulsifiable 10-1 Pyrenone Concentrate | Pyrethrins Piperonyl Butoxide
000769-00650 | SMCP Warehouse Fog Insecticide | Pyrethrins Piperonyl Butoxide
000769-00654 | SMCP Roach Spray Concentrate | Pyrethrins Piperonyl Butoxide
000769-00700 | SMCP Malathion ULV Concentrate | Malathion
000769-00733 | SMCP General Purpose Spray #31 | Pyrethrins Piperonyl Butoxide
000769-00734 | SMCP Pyrenone General Purpose Spray | Pyrethrins Piperonyl Butoxide
000769-00736 | SMCP Malathion Mole Cricket Bait Insecticide | Malathion
000769-00742 | A. F. C. Pyrethrum Extract 1% | Pyrethrins
000769-00748 | AFC Pyrethrum Concentrate #10 | Pyrethrins
000769-00753 | P.C.E. Fog Oil | Pyrethrins Piperonyl Butoxide MGK 264
000769-00757 | AFC Pyrethrum Powder 0.9% | Pyrethrins
000769-00760 | AFC General Purpose Spray | Pyrethrins Piperonyl Butoxide MGK 264
000769-00764 | AFC General Purpose Spray Type II | Pyrethrins Piperonyl Butoxide MGK 264
000769-00765 | SMCP AFC General Purpose Spray Type 4 | Pyrethrins Piperonyl Butoxide MGK 264
000769-00770 | SMCP PCE Space Spray | Pyrethrins Piperonyl Butoxide MGK 264
000769-00772 | P. C. E. Water Miscible 110 | Pyrethrins Piperonyl Butoxide MGK 264
000769-00773 | PCE Pyrethrum Space Spray | Pyrethrins Piperonyl Butoxide
000769-00774 | Formulation 16 | Pyrethrins Piperonyl Butoxide MGK 264
000769-00775 | PCE Water Miscible 110 | Pyrethrins Piperonyl Butoxide MGK 264
000769-00776 | General Purpose Spray Type 5 | Pyrethrins Piperonyl Butoxide MGK 264
000769-00777 | P.C.E. Multi-Purpose Concentrate | Pyrethrins Piperonyl Butoxide MGK 264
000769-00779 | AFC D-Trans 5 | Piperonyl Butoxide MGK 264
000769-00780 | AFC Esbiol 35 | Piperonyl Butoxide MGK 264
000769-00790 | Omnicide Municipal Special | Pyrethrins Piperonyl Butoxide MGK 264
000769-00797 | Universal Quick-Tox Fog Spray | Pyrethrins Piperonyl Butoxide Dichlorvos
000769-00810 | Pyrethrum 25-5 ULV Insecticide | Pyrethrins Piperonyl Butoxide
000769-00811 | Superior Omnicide Special Kill | Pyrethrins Piperonyl Butoxide MGK 264
000769-00818 | Superior Food Plant Spray | Pyrethrins Piperonyl Butoxide
000769-00844 | Pratt's 50% Malathion Spray | Malathion
000769-00847 | Pratt's Home & Garden Insect Bomb | Pyrethrins Piperonyl Butoxide MGK 264
000769-00857 | Science Red Arrow Insect Spray Pratt Red Arrow Insect Spray | Pyrethrins Piperonyl Butoxide Rotenone
000769-00867 | Pratt Room Fogger | Pyrethrins Piperonyl Butoxide MGK 264
000769-00887 | Pybutox Fruit Fly Dust | Pyrethrins Piperonyl Butoxide
000769-00932 | General Purpose Insecticide | Pyrethrins Piperonyl Butoxide
000769-00933 | Warner Enterprises Tomato & Vegetable Spray | Pyrethrins Piperonyl Butoxide
000769-00934 | Warner Enterprises Rose & Floral Spray | Pyrethrins Piperonyl Butoxide
000769-00937 | Warner House and Garden Spray | Pyrethrins Piperonyl Butoxide
000769-00941 | Rose & Flower Insect Spray | Pyrethrins Piperonyl Butoxide
000769-00957 | Pratt Malathion 25W | Malathion
000769-00961 | Agrisect Malathion 80 EC | Malathion
000769-00964 | Sureco Aqueous Flea & Tick Spray #4 | Pyrethrins Piperonyl Butoxide
000769-00966 | Sureco Synergized Permethrin Powder #1 | Piperonyl Butoxide Permethrin
000769-00967 | Sureco Synergized Permethrin Powder #2 | Piperonyl Butoxide Permethrin
000769-00968 | Sureco 6 Month Insect Powder | Pyrethrins Piperonyl Butoxide
000829-00061 | SA-50 Brand 5% Malathion Dust | Malathion
000829-00288 | SA-50 Turf Fungicide Granular | Triadimefon
000829-00289 | SA-50 Systemic Fungicide For Turf and Ornamentals | Triadimefon
001015-00016 | Douglas Special Mill Spray | Piperonyl Butoxide Pyrethrins
001021-01857 | MGK Formula 74407 | Piperonyl Butoxide Pyrethrins
001203-00011 | Foremost 4809-ES Insect-O-Fog | Piperonyl Butoxide Pyrethrins
001270-00093 | Zeposector Insecticide Spray | Piperonyl Butoxide Pyrethrins MGK 264
001270-00222 | Zeposector A Spray Insecticide | Piperonyl Butoxide MGK 264
001270-00253 | ZEP Double Shot II | Piperonyl Butoxide Pyrethrins Permethrin
001381-00153 | Imperial 6% Malathion Grain Dust | Malathion
001381-00154 | 5LB Malathion Spray | Malathion
001903-00029 | 8-In-1 Flea and Tick Shampoo | Piperonyl Butoxide Pyrethrins
002596-00018 | Hartz 2-in-1 Dog Flea Soap | Piperonyl Butoxide Pyrethrins MGK 264
002596-00021 | Hartz 2-in-1 Luster Bath for Dogs | Piperonyl Butoxide Pyrethrins MGK 264
002596-00023 | Hartz 2-in-1 Luster Bath for Cats | Piperonyl Butoxide Pyrethrins MGK 264
002596-00093 | Hartz 2-in-1 Flea + Tick Killer for Cats - Fine Mist Spray | Piperonyl Butoxide Pyrethrins MGK 264
002596-00094 | Hartz 2-in-1 Flea & Tick Killer for Dogs with Pyrethrin | Piperonyl Butoxide Pyrethrins MGK 264
002596-00111 | Hartz One Spot Flea & Tick Killer for Cats & Dogs | Piperonyl Butoxide Pyrethrins MGK 264
002596-00138 | Hartz 2-in-1 Flea & Tick Killer for Carpets | Piperonyl Butoxide Pyrethrins
002724-00468 | Sandoz 9116 Mousse | Pyrethrins Piperonyl Butoxide
002724-00512 | Speer Professional Insect Killer | Pyrethrins Piperonyl Butoxide
002724-00513 | Speer Industrial Insecticide | Pyrethrins Piperonyl Butoxide
002724-00521 | Speer One Shot Hi Pressure Insecticide Fogger | Pyrethrins Piperonyl Butoxide MGK 264
002724-00522 | Speer Industrial Pressurized Spray | Pyrethrins Piperonyl Butoxide
002724-00523 | Speer Insecticide, Pyrethrum Space Spray Synergizer Pyrethrins | Pyrethrins Piperonyl Butoxide
002724-00539 | Speer Automatic Sequential Insecticide | Pyrethrins Piperonyl Butoxide
002724-00550 | Pet Guard Flea & Tick Spray for Dogs & Cats | Piperonyl Butoxide
002724-00551 | Speer Home & Institutional Insecticide Spray | Piperonyl Butoxide MGK 264
002724-00553 | Speer Household + Industrial Insect Killer | Piperonyl Butoxide MGK 264
002724-00554 | Magic Guard Home & Institutional Insect Spray | Piperonyl Butoxide MGK 264
002724-00556 | Magic Guard Automatic Fogger No. IV | Pyrethrins Piperonyl Butoxide MGK 264
002724-00557 | Magic Guard Automatic Fogger No. II (Double Strength Formula) | Pyrethrins Piperonyl Butoxide MGK 264
002724-00558 | Speer Dairy and Food Plant Insecticide | Pyrethrins Piperonyl Butoxide MGK 264
002724-00559 | Constant Companion Flea & Tick Spray for Dogs | Pyrethrins Piperonyl Butoxide MGK 264
002724-00560 | Serene Companion Flea & Tick Spray for Cats | Pyrethrins Piperonyl Butoxide MGK 264
002724-00561 | Pet Guard Pyrenone Flea & Tick Spray | Pyrethrins Piperonyl Butoxide
002724-00564 | Pet Guard Beauty Shampoo | Pyrethrins Piperonyl Butoxide MGK 264
002724-00565 | Better World Industrial Aerosol Insecticide | Pyrethrins Piperonyl Butoxide MGK 264
002724-00567 | Better World Tomato & Vegetable Insect Spray | Pyrethrins Piperonyl Butoxide
002724-00569 | Force One Insect Killer | Pyrethrins Piperonyl Butoxide MGK 264
002724-00570 | Constant Companion Flea and Tick Dip | Pyrethrins Piperonyl Butoxide MGK 264
002724-00571 | Speer Fly Repellent Spray | Pyrethrins Piperonyl Butoxide
002724-00572 | SPI Pyrenone Food Plant Insecticide | Pyrethrins Piperonyl Butoxide
002724-00574 | Speer Liquid Flea & Tick Killer with Deodorant | Pyrethrins Piperonyl Butoxide MGK 264
002724-00576 | Deputy Dog Flea & Tick Arrest | Pyrethrins Permethrin
002724-00583 | Speer Residual Pressurized Spray | Piperonyl Butoxide MGK 264
002724-00587 | SPI Residual Flea and Tick Spray for Dogs and Cats II | Pyrethrins Permethrin
002724-00588 | Speer Flea and Tick Powder for Carpets | Pyrethrins Piperonyl Butoxide
002724-00594 | Daltek Dermatological Quick Kill Flea and Tick Spray for Dogs and Cats | Pyrethrins Piperonyl Butoxide
002724-00595 | Farnam Dip-Quik Concentrate | Pyrethrins Piperonyl Butoxide
002724-00596 | Farnam Flea & Tick Non-Aerosol Spray | Pyrethrins Piperonyl Butoxide
002724-00598 | Farnam Flys Away Repellent Stick | Pyrethrins Piperonyl Butoxide
002724-00600 | Farnam Repel-X A Emulsifiable Fly Spray | Piperonyl Butoxide
002724-00601 | Farnam Automatic Insect Guard | Pyrethrins Piperonyl Butoxide
002724-00602 | Farnam Flea & Tick Shampoo | Pyrethrins Piperonyl Butoxide MGK 264
002724-00603 | Farnam Flea & Tick Shampoo II | Pyrethrins Piperonyl Butoxide
002724-00605 | Nature's Own Brand Herbal Flea and Tick Shampoo | Pyrethrins
002724-00606 | Organic Pyrethrin Liquid Concentrate Spray | Pyrethrins Piperonyl Butoxide
002724-00609 | Farnam Repel-X Plus | Piperonyl Butoxide
002724-00612 | Farnam Wipe a Fly Protectant | Piperonyl Butoxide
002724-00613 | Mug-a-bug Total Release Aerosol Fogger I | Pyrethrins Permethrin MGK 264
002724-00614 | Speer Repellent Towelette I | Pyrethrins Piperonyl Butoxide
002724-00618 | Holiday Pet Spray | Piperonyl Butoxide
002724-00623 | Speer Pyrethrin Spray 2000 | Pyrethrins Piperonyl Butoxide
002724-00624 | Elite Carpet Powder | Pyrethrins Piperonyl Butoxide
002724-00625 | 6 Month Insect Powder | Pyrethrins Piperonyl Butoxide
002724-00626 | Elite Carpet Powder II | Pyrethrins Piperonyl Butoxide
002724-00629 | Speer Point Five Pyrethrin Spray | Pyrethrins Piperonyl Butoxide
002724-00647 | Speer-it Fogger II Total Release Aerosol | Pyrethrins Piperonyl Butoxide MGK 264
002724-00649 | Farnam-Wipe Plus Fly Protectant | Piperonyl Butoxide
002724-00650 | Farnam HMH-228 Fly Repellent Ointment | Piperonyl Butoxide
002724-00652 | Purina Flea 'N Tick Mist | Pyrethrins Permethrin
002724-00653 | TPC-RE-PEL | Pyrethrins Piperonyl Butoxide
002724-00656 | Speer Point Five Pyrethrin Total Release Indoor Fogger | Pyrethrins Piperonyl Butoxide
002724-00657 | Speer Cyfluthrin Multi-Purpose House & Garden Insect Killer | Piperonyl Butoxide MGK 264
002724-00658 | Speer Cyfluthrin Ant and Roach Killer | Pyrethrins Piperonyl Butoxide
002724-00659 | Speer Cyfluthrin Ant and Roach Killer Pump Spray | Pyrethrins Piperonyl Butoxide
002724-00660 | Speer Cyfluthrin Flying Insect Killer | Piperonyl Butoxide MGK 264
002724-00662 | Speer Total Release Aerosol II with Nylar | Pyrethrins Piperonyl Butoxide MGK 264
002724-00670 | Neoperm Industrial Insect Killer | Pyrethrins Piperonyl Butoxide Permethrin
002724-00671 | Speer Dry Insecticide | Pyrethrins Piperonyl Butoxide
002724-00672 | Speer Py-Perm Aqueous Insect Killer #2 Alternate Speer Permethrin Dusting Powder Active | Piperonyl Butoxide Permethrin
002724-00689 | Security Brand Vegetable & Ornamental Insect Spray | Pyrethrins Piperonyl Butoxide
002724-00708 | Elite Flea & Tick Spray #5 | Pyrethrins Piperonyl Butoxide
002724-00710 | Elite Horse Spray and Rub Concentrate | Pyrethrins Piperonyl Butoxide
002724-00711 | Elite Horse Spray & Rub | Pyrethrins Piperonyl Butoxide
002724-00712 | Elite Residual Flea and Tick Mist | Pyrethrins Permethrin
002724-00713 | Elite Flea and Tick Dip III | Pyrethrins Piperonyl Butoxide
002724-00716 | Elite Flea & Tick Shampoo III | Pyrethrins Piperonyl Butoxide
002724-00717 | Elite Flea & Tick Shampoo IV | Pyrethrins Piperonyl Butoxide
002724-00718 | Elite Flea & Tick Shampoo V | Pyrethrins Piperonyl Butoxide
002724-00720 | Elite Horse Spray | Pyrethrins Piperonyl Butoxide
002724-00721 | Elite Residual Flea & Tick Mist II with Aloe & Lanolin | Pyrethrins Permethrin
002724-00723 | Elite Quick Kill Spray Concentrate II | Pyrethrins Piperonyl Butoxide
002724-00725 | Elite Horse Spray and Wipe | Pyrethrins Piperonyl Butoxide Permethrin
002724-00726 | Elite Residual Equine & Pet Spray II | Pyrethrins Piperonyl Butoxide Permethrin
002724-00727 | Elite Barn and Stable Spray II | Pyrethrins Piperonyl Butoxide
002724-00728 | Elite Flea & Tick Spray #10 | Pyrethrins Piperonyl Butoxide MGK 264
002724-00732 | Elite Flea & Tick Spray II | Pyrethrins Piperonyl Butoxide MGK 264
002724-00733 | Elite Flea & Tick Shampoo II | Pyrethrins Piperonyl Butoxide MGK 264
002724-00735 | RSR Allethrin Shampoo | Piperonyl Butoxide
002724-00736 | RSR Hamster & Gerbil Spray | Piperonyl Butoxide Pyrethrins MGK 264
002724-00737 | RSR Mite and Lice Spray | Pyrethrins Piperonyl Butoxide
002724-00738 | Heartland Farm & Dairy Fly Spray | Pyrethrins Piperonyl Butoxide
002724-00739 | Heartland Auto-Mist 3 Insect Killer | Pyrethrins Piperonyl Butoxide MGK 264
002724-00740 | Heartland Auto-Mist 2 Insect Killer | Pyrethrins Piperonyl Butoxide MGK 264
002724-00741 | Heartland Farm & Dairy Insecticide | Pyrethrins Piperonyl Butoxide MGK 264
002724-00742 | Mercomist Aerosol Insect Killer | Pyrethrins Piperonyl Butoxide MGK 264
002724-00744 | Heartland FH-7 Farm & Dairy Insect Killer | Pyrethrins Piperonyl Butoxide
002724-00745 | SPI Horse Spray | Pyrethrins Piperonyl Butoxide
002724-00748 | Holiday Ointment | Pyrethrins Piperonyl Butoxide
002724-00749 | Holiday Flea Shampoo for Dogs & Cats | Pyrethrins Piperonyl Butoxide
002724-00752 | Holiday Puppy-Kitten Spray | Pyrethrins Piperonyl Butoxide MGK 264
002724-00753 | Pyrethrin Flushing Insecticide | Pyrethrins Piperonyl Butoxide MGK 264
002724-00754 | Pest Control Products Roach Flushing Insecticide | Pyrethrins Piperonyl Butoxide MGK 264
002724-00755 | Pest Control Products One-Two-Three Economy Insecticide | Pyrethrins Piperonyl Butoxide MGK 264
002724-00756 | Holiday Concentrated Shampoo for Dogs and Cats | Pyrethrins Piperonyl Butoxide
002724-00758 | Pest Control Products Indoor Fogger | Pyrethrins Piperonyl Butoxide MGK 264
002724-00763 | Hill's Holiday Flea Stop Pump Spray for Dogs & Cats | Piperonyl Butoxide
002724-00764 | Holiday Non-Aerosol Flea Spray | Piperonyl Butoxide
002724-00768 | Hill's Holiday Flea Stop Pyrethrin Pump | Pyrethrins Piperonyl Butoxide MGK 264
002724-00772 | Permalool Plus Fogger | Piperonyl Butoxide Permethrin
002724-00775 | Holiday Pet Spray II | Pyrethrins Piperonyl Butoxide MGK 264
002724-00778 | Permethrin Plus Fogger | Piperonyl Butoxide Permethrin
002724-00781 | Carpet Powder Plus | Pyrethrins Piperonyl Butoxide
002724-00784 | Carpet Powder Plus II | Pyrethrins Piperonyl Butoxide
002724-00785 | Carpet Powder Plus III | Pyrethrins Piperonyl Butoxide
002935-00549 | Potato Seed Treater | Mancozeb
004713-00006 | Superfine Pyrethrum Powder | Pyrethrins
004713-00007 | Kenya Refined Pyrethrum Extract 20% | Pyrethrins
004822-00025 | Raid Insect Spray Power Packed | Piperonyl Butoxide Pyrethrins MGK 264
004822-00034 | Raid Flying Insect Killer | MGK 264 Piperonyl Butoxide Pyrethrins
004822-00071 | Raid Power Guard 2-Way Bug Killer | Piperonyl Butoxide Pyrethrins
004822-00072 | New Formula Raid House & Garden Bug Killer | Pyrethrins Piperonyl Butoxide
004822-00085 | Bolt Super Knock-Out Flying Insect Killer | Piperonyl Butoxide
004822-00113 | Johnson Raid Household Flying Insect Killer | Piperonyl Butoxide MGK 264
004822-00133 | Improved Formula Raid House & Garden Bug Killer | Pyrethrins Piperonyl Butoxide
004822-00135 | Raid Automatic Indoor Fogger | Pyrethrins Piperonyl Butoxide MGK 264
004822-00180 | Raid Indoor Fogger II | Pyrethrins Piperonyl Butoxide MGK 264
004822-00279 | Raid House & Garden Bug Killer Formula 11 | Pyrethrins Piperonyl Butoxide
004822-00280 | Raid Flying Insect Killer Formula V | MGK 264 Pyrethrins Piperonyl Butoxide Tetramethrin
004822-00281 | Raid House & Garden | Pyrethrins Piperonyl Butoxide
004822-00289 | Raid Flying Insect Killer Formula 4 | Piperonyl Butoxide
004822-00303 | Raid Flying Insect Killer Formula 9 | Piperonyl Butoxide
004822-00319 | Raid Flying Insect Killer Formula 12. | Piperonyl Butoxide
004822-00321 | Raid Fogger 15 | Pyrethrins
004822-00323 | Raid Ant & Roach Formula 6 | Piperonyl Butoxide Pyrethrins Permethrin
004822-00327 | Raid Flying Insect Killer | Piperonyl Butoxide
004822-00353 | Raid and Roach Killer Formula D16 | Piperonyl Butoxide Permethrin
004822-00354 | Raid Max Roach and Ant Killer 3 | Piperonyl Butoxide
004822-00361 | Enforcer Flea Killer For Carpets | MGK 264 Pyrethrins Piperonyl Butoxide
004822-00363 | Piperonyl Butoxide Technical for Manufacturing Purposes Only | Piperonyl Butoxide
004822-00378 | Raid Max Fogger 2 | Pyrethrins Piperonyl Butoxide
004822-00386 | Raid Indoor Fogger XXIII | Pyrethrins Piperonyl Butoxide
004822-00387 | Raid Fogger Formula XXIV | Pyrethrins Piperonyl Butoxide
004822-00391 | Raid Ant 7 Roach Killer 12 | Pyrethrins Piperonyl Butoxide Permethrin
004822-00403 | Raid And & Roach Killer 14 | Pyrethrins Piperonyl Butoxide Permethrin
004822-00445 | Raid Flea Killer Plus Cat Foam V | Piperonyl Butoxide Pyrethrins MGK 264
004822-00459 | Whitmire Liquid Pet Spray | MGK 264 Pyrethrins Piperonyl Butoxide
004822-00464 | Whitmire Flea and Tick Spray No. 1 | Pyrethrins Piperonyl Butoxide MGK 264
004822-00466 | P/P Pet Spray | Pyrethrins Piperonyl Butoxide
004822-00467 | P/P Flea & Tick Spray No. 3 | Pyrethrins Piperonyl Butoxide
005481-00073 | Alco Fly Fighter Liquid Concentrate | Dichlorvos (DDVP)
005481-00200 | DDVP 90% Fogging Concentrate | Dichlorvos (DDVP)
005481-00206 | DDVP 20% Spray Concentrate | Dichlorvos (DDVP)
005481-00334 | DDVP 2 Spray OB | Dichlorvos (DDVP)
005481-00340 | Alco Bug Spray Pressurized | Dichlorvos (DDVP)
005887-00010 | 50% Malathion Spray | Malathion
005887-00120 | Black Leaf Tomato & Vegetable Spray | Piperonyl Butoxide Pyrethrins
005887-00160 | Black Leaf Roach, Ant & Spider Spray | Permethrin Pyrethrins MGK 264
005887-00168 | 50% Malathion Spray | Malathion
007401-00267 | Hi-Yield 5% Malathion Dust | Malathion
007401-00438 | Ferti-Lome Liquid Fruit Tree Spray | Malathion
008329-00045 | Permethrin RTU | Permethrin
008660-00255 | Permethrin 0.5 Lawn Insect Control | Permethrin
008660-00257 | Permethrin 0.32 Lawn Insect Control with Fertilizer | Permethrin
008660-00258 | Permethrin 0.38 Lawn Insect Control with Fertilizer | Permethrin
009444-00005 | CB Purge Insecticide | Piperonyl Butoxide Pyrethrins
009444-00020 | Purge Instant Fogger | Pyrethrins Piperonyl Butoxide
009444-00021 | CB-38 Insecticide | Pyrethrins Piperonyl Butoxide
009444-00033 | Purge III Industrial Type Insect Killer | Pyrethrins Piperonyl Butoxide MGK 264
009444-00041 | CB-40 Insecticide | Pyrethrins Piperonyl Butoxide MGK 264
009444-00082 | Purge Fly Spray for Horses | Pyrethrins Piperonyl Butoxide
009444-00088 | CB Farm Dairy Insect Fogger | Pyrethrins Piperonyl Butoxide MGK 264
009444-00096 | CB-80 Insecticide | Pyrethrins Piperonyl Butoxide
009444-00102 | CB Flea & Tick Shampoo | Pyrethrins Piperonyl Butoxide
009444-00111 | CB Farm Dairy Insecticide Concentrate | Pyrethrins Piperonyl Butoxide
009444-00124 | Purge CB-100 Insecticide | Pyrethrins Piperonyl Butoxide MGK 264
009444-00126 | CB S-312 Insecticide | Piperonyl Butoxide
009444-00144 | CB-405 Fogger | Pyrethrins Piperonyl Butoxide MGK 264
009444-00147 | Country Vet Flea & Tick Dip Concentrate | Pyrethrins Piperonyl Butoxide
009444-00148 | Country Vet Pet & Spray | Pyrethrins Piperonyl Butoxide
009444-00149 | Country Vet Pet & Kennel Spray | Pyrethrins Piperonyl Butoxide
009444-00162 | Purge 30 DS | Pyrethrins Piperonyl Butoxide MGK 264
009444-00172 | CB-38-4 For Insect Control | Pyrethrins Piperonyl Butoxide
009444-00176 | CB-80-2 WB For Insect Control | Pyrethrins Piperonyl Butoxide
009444-00178 | CB-80-4 WB For Insect Control | Pyrethrins Piperonyl Butoxide
009444-00179 | CB-123-1 For Insect Control | Pyrethrins Piperonyl Butoxide MGK 264
009444-00187 | CB S-312 For Insect Control | Piperonyl Butoxide
009444-00197 | Country Vet Farm Dairy CV-40-ID Insect Spray | Pyrethrins Piperonyl Butoxide
009444-00198 | Country Vet Farm Dairy CV-40-3D Insect Spray | Pyrethrins Piperonyl Butoxide
009444-00199 | Country Vet Farm Dairy CV-40-4D Insect Spray | Pyrethrins Piperonyl Butoxide
009444-00200 | Country Vet Farm Dairy CV-40-2D Insect Spray | Pyrethrins Piperonyl Butoxide
009444-00201 | Intruder II Residual with Cyfluthrin | Pyrethrins Piperonyl Butoxide
009444-00218 | Crawling Insect Killer-MP | Piperonyl Butoxide Permethrin
009444-00222 | Home Insect Fogger | Pyrethrins Permethrin MGK 264
009444-00233 | CB-80-3 Spray for Horses | Pyrethrins Piperonyl Butoxide
009444-00238 | Country Vet Purge 1 | Pyrethrins Piperonyl Butoxide
009688-00036 | Total Release Insect Fogger | Piperonyl Butoxide Pyrethrins
009688-00052 | Flying and Crawling Insects Spray IV | Piperonyl Butoxide Pyrethrins
009688-00055 | Flying and Crawling Insect Killer V | Piperonyl Butoxide Pyrethrins MGK 264
009688-00083 | Chemsico Lawn Insect Control Granules | Permethrin
009688-00103 | Chemsico Carpet Powder | Piperonyl Butoxide Pyrethrins
009688-00105 | Chemsico Insect Repellent | Permethrin
009688-00112 | Chemsico Aerosol Spray A | Permethrin
009688-00114 | Chemsico Insecticide K | Piperonyl Butoxide Pyrethrins
009688-00115 | Chemsico Ornamental, Houseplant & Vegetable Spray | Piperonyl Butoxide Pyrethrins Permethrin
009688-00116 | Chemsico Indoor & Outdoor Spray | Piperonyl Butoxide Permethrin
009688-00142 | Chemsico Insecticide Concentrate 10P | Permethrin
009688-00146 | Chemsico Insecticide DM | Permethrin
009688-00159 | Chemsico Insecticide NT | Piperonyl Butoxide Permethrin
009688-00161 | Chemsico Insecticide Concentrate N30-A | Permethrin
009688-00175 | Chemsico Insecticide Concentrate FAP | Permethrin
009688-00196 | Chemsico Garden Dust PP | Piperonyl Butoxide Pyrethrins
009688-00207 | Chemsico Insecticide Concentrate 10PT | Permethrin
009688-00226 | Chemsico Flea & Tick Killer PP | Piperonyl Butoxide Pyrethrins
009779-00272 | Propanil 4E | Propanil
009779-00306 | Propanil 60 DF | Propanil
009779-00307 | Malathion RTU | Malathion
009779-00338 | Propanil 80 EDF | Propanil
009779-00340 | Londax Pro-Pack BNB | Propanil
009779-00343 | Pro-Pack 80EDF | Propanil
010163-00044 | ProKill Malathion ULV | Malathion
010163-00142 | Gowan Malathion 5 Dust | Malathion
010163-00152 | Malathion Technical | Malathion
010806-00011 | P-30 Insect Spray | Piperonyl Butoxide Pyrethrins MGK 264
028293-00004 | Unicorn Pet Shampoo | MGK 264 Piperonyl Butoxide
028293-00007 | Unicorn Flea and Tick Powder | Piperonyl Butoxide Pyrethrins
028293-00020 | Unicorn Fly Repellent #2 | MGK 264 Piperonyl Butoxide
028293-00021 | Unicorn Blitz RTU Spray | Piperonyl Butoxide Pyrethrins
028293-00025 | Unicorn Ear Mite Remedy | Piperonyl Butoxide Pyrethrins
028293-00029 | Unicorn Pet Dip | Piperonyl Butoxide Pyrethrins
028293-00030 | Unicorn Equine Fly Spray | Piperonyl Butoxide Pyrethrins Butoxypolypropylene Glycol
028293-00085 | Unicorn Bird Spray | MGK 264 Piperonyl Butoxide
028293-00093 | Unicorn Carpet Dust | Piperonyl Butoxide Pyrethrins
028293-00118 | Unicorn Today Flea and Tick Spray | MGK 264 Piperonyl Butoxide
028293-00119 | Unicorn Malathion | Malathion
028293-00137 | Unicorn Pyrethrin Pet Shampoo II | Piperonyl Butoxide Pyrethrins
028293-00138 | Unicorn Carpet Dust II | Piperonyl Butoxide Pyrethrins
028293-00140 | Unicorn Super Pet Shampoo | MGK 264 Piperonyl Butoxide
028293-00145 | Unicorn Flea and Tick Spray | MGK 264 Piperonyl Butoxide
028293-00174 | Unicorn Flea & Tick Spray | Piperonyl Butoxide Pyrethrins
028293-00176 | Unicorn Aqueous Pet Dip | Piperonyl Butoxide Pyrethrins
028293-00178 | Unicorn Animal & Kennel Concentrate | Piperonyl Butoxide Pyrethrins
028293-00180 | Pyrethrins Flea and Tick Carpet Powder | Piperonyl Butoxide Pyrethrins
028293-00197 | Unicorn Ultra Pet Shampoo II | MGK 264
028293-00207 | Unicorn Garden Dust | Piperonyl Butoxide Pyrethrins
028293-00208 | Unicorn Garden Spray Concentrate | Piperonyl Butoxide Pyrethrins
028293-00209 | Unicorn 14 Day Flea & Tick Spray #3 | Piperonyl Butoxide Pyrethrins Permethrin
028293-00219 | Unicorn Concentrate 7243 | Piperonyl Butoxide Pyrethrins
028293-00220 | Unicorn Pressurized Garden Spray | Piperonyl Butoxide Pyrethrins
028293-00224 | House and Carpet Spray #7 | Piperonyl Butoxide Pyrethrins Permethrin
028293-00225 | Unicorn House and Carpet Spray #8 | Piperonyl Butoxide Pyrethrins Permethrin
028293-00226 | Unicorn House and Carpet Spray #9 | Piperonyl Butoxide Pyrethrins Permethrin
028293-00227 | Unicorn Residential, Industrial & Garden Spray #2 | Piperonyl Butoxide Pyrethrins Permethrin
028293-00228 | Unicorn House and Carpet Spray #11 | Piperonyl Butoxide Pyrethrins Permethrin
028293-00232 | Unicorn .15% Transparent Emulsion Spray | Piperonyl Butoxide Pyrethrins
028293-00275 | Unicorn Multi-Purpose House & Garden Insect Killer | MGK 264 Piperonyl Butoxide
028293-00278 | Unicorn 1% Granular Turf Fungicide | Triadimefon
028293-00280 | Unicorn 0.5% Granular Turf Fungicide | Triadimefon
028293-00284 | Unicorn CyPermethrin Concentrate | Cypermethrin
028293-00288 | Unicorn Synergized Pour-On Insecticide II | Piperonyl Butoxide Permethrin
028293-00291 | Unicorn Malathion 50% EC | Malathion
028293-00292 | Unicorn Synergized Pour-On Insecticide III | Piperonyl Butoxide Permethrin
028293-00367 | Unicorn .30% CyPermethrin Granules | Cypermethrin
034704-00802 | Accost-1G | Triadimefon
040208-00005 | Haymaker II Fogging Insecticide | Piperonyl Butoxide Pyrethrins
046515-00031 | CAI Flea & Tick Spray for Dogs and Cats II | Permethrin Pyrethrins
046515-00054 | Permethrin 0.5% Liquid Ready to Use | Permethrin
047000-00008 | Chem Tech Metered Refill | Piperonyl Butoxide Pyrethrins
053883-00040 | Martin's 50% Malathion Concentrate | Malathion
067425-00019 | ECOPCO JET/X | Piperonyl Butoxide
067603-00001 | TSD Multi-Purpose Insect Spray | Permethrin
067760-00026 | Fyfanon 6% Dust | Malathion
073049-00069 | Powdered Pyrethrum | Pyrethrins
073049-00070 | Pyrethrin Extract Crude | Pyrethrins
073049-00073 | Pyrethrum Extract Hr. | Pyrethrins
073049-00074 | Pyrethrum Powdered | Pyrethrins
073049-00075 | Insecticidal Concentrate NO. 1 | Piperonyl Butoxide Pyrethrins MGK 264
073049-00077 | Ultratec Insect with Pyrethrins/Piperonyl Butox. T.E.C. 3.75%-3.75% | Piperonyl Butoxide Pyrethrins
073049-00124 | Pramex Insecticide Concentration 12.5% | Permethrin
073049-00126 | Pramex Insecticide Aqueous Pressurized Spray 0.25% For House and Garden | Permethrin
073049-00146 | Ultratec Insecticide W/PYR./Piperonyl Butoxide Transparent E.C. 2.25-22.5% | Piperonyl Butoxide Pyrethrins
073049-00147 | Ultratec Insecticide W/PYR./Piperonyl Butoxide Transparent Emulsion 2.25%-22.5% | Piperonyl Butoxide Pyrethrins
073049-00149 | PYR./P.B.O. Trans. Emulsion Spray 0.15 + 1.5% | Piperonyl Butoxide Pyrethrins
073049-00173 | Pyraperm 709 Fogger | Piperonyl Butoxide Pyrethrins Permethrin
073049-00188 | Permanone Insect Killer R400 | Permethrin
073049-00189 | Pramex Insecticide E. C. 13.3% For Use on Plants Formula I | Permethrin
073049-00191 | Ford's Permicide Crack & Crevice Spray | Permethrin
073049-00192 | Thirty-Five Plus Multi-Purpose Insect Spray | Permethrin
073049-00194 | Tomato and Vegetable Insect Spray | Piperonyl Butoxide Pyrethrins
073049-00195 | Ford's Garden Spray | Piperonyl Butoxide Pyrethrins
073049-00196 | Pet Shampoo | Piperonyl Butoxide Pyrethrins
073049-00198 | Ford's Aqua Py Dog & Cat Spray | Piperonyl Butoxide Pyrethrins
073049-00199 | Flea and Tick Spray | Piperonyl Butoxide Pyrethrins
073049-00200 | Ford's Pyre-Dust Roach Powder | Piperonyl Butoxide Pyrethrins
073049-00201 | Ford's Aqua Fog | Piperonyl Butoxide Pyrethrins
073049-00202 | Flea and Tick Duster for Carpets and Upholstered Furniture | Piperonyl Butoxide Pyrethrins
073049-00203 | Ford's Multipurpose Aerosol | Piperonyl Butoxide Pyrethrins
073049-00204 | Ultimate Spray | Piperonyl Butoxide Pyrethrins
073049-00205 | Pyre-cide 3-6-10 Oil Concentrate | Piperonyl Butoxide Pyrethrins MGK 264
073049-00211 | Pyrenone Aerosol Concentrate 20-5 | Piperonyl Butoxide Pyrethrins
073049-00214 | Pyrenone O.T. 50-5 | Piperonyl Butoxide Pyrethrins
073049-00215 | Pyrenone O.T. 666 Insecticide | Piperonyl Butoxide Pyrethrins
073049-00216 | Emulsifiable Pyrenone 10-1 | Piperonyl Butoxide Pyrethrins
073049-00219 | Pyrenone O.T. Emulsifiable Concentrate 60-6 | Piperonyl Butoxide Pyrethrins
073049-00220 | Niagara Pyrenone Aerosol Concentrate 50-6 Insecticide code 777.00 | Piperonyl Butoxide Pyrethrins
073049-00221 | Special Aerosol Concentrate Insecticide Code | Piperonyl Butoxide Pyrethrins
073049-00224 | Intermediate Concentrate WB Insecticide | Piperonyl Butoxide Pyrethrins
073049-00227 | Pyrenone General Purpose Spray | Piperonyl Butoxide Pyrethrins
073049-00229 | Butamin P & O Concentrate | Piperonyl Butoxide
073049-00235 | Automatic Sequential Pressurized Spray | Piperonyl Butoxide Pyrethrins
073049-00237 | Pyrenone Small Animal & Kennel Insecticide Emulsifiable Concentrate | Piperonyl Butoxide Pyrethrins
073049-00239 | Niagara Vaporizer Concentrate 3.0-0.3 | Piperonyl Butoxide Pyrethrins
073049-00240 | Vaporizer Concentrate 0.1%-0.5% | Piperonyl Butoxide Pyrethrins
073049-00241 | Pyrenone Industrial Spray Emulsifiable Concentrate | Piperonyl Butoxide Pyrethrins
073049-00242 | Pyrenone Double-A Spray | Piperonyl Butoxide Pyrethrins
073049-00243 | Pyrenone 60-6 EC Alternate Code 77805 | Piperonyl Butoxide Pyrethrins
073049-00244 | Vaporizor Conc. 2.4-0.3 | Piperonyl Butoxide Pyrethrins
073049-00245 | Niagara Pyrenone W-B 40-5 Code 76703 | Piperonyl Butoxide Pyrethrins
073049-00246 | Multi-Purpose Pyrenone Insecticide Concentrate | Piperonyl Butoxide Pyrethrins
073049-00248 | Compactor and Kitchen Insecticide | Piperonyl Butoxide Pyrethrins
073049-00250 | Pyrenone E.C. 10-1 Insecticide | Piperonyl Butoxide Pyrethrins
073049-00251 | Pyrenone Mill Spray 2-0.2 Oil Type | Piperonyl Butoxide Pyrethrins
073049-00256 | Pyrenone 50%-5% Insecticide Concentrate | Piperonyl Butoxide Pyrethrins
073049-00257 | Butamin Indoor/Outdoor Spray | Piperonyl Butoxide
073049-00287 | Drione II Insecticide | Piperonyl Butoxide Pyrethrins
073049-00291 | Pyrenone 12.5 - 5.0 W.P. Base | Piperonyl Butoxide Pyrethrins
073049-00296 | Pyrenone - Porch, Patio, Garden and Ornamental Spray I | Piperonyl Butoxide Pyrethrins
073049-00302 | Double Action Flea and Tick Powder I | Piperonyl Butoxide Pyrethrins
073049-00304 | Butamin P & O Concentrate V | Piperonyl Butoxide
073049-00308 | Tetraperm Yard & Patio Spray | Piperonyl Butoxide Permethrin
073049-00309 | Permanone Dusting Powder | Piperonyl Butoxide Permethrin
073049-00310 | Permanone (20-5) Dust Concentrate | Piperonyl Butoxide Permethrin
073049-00311 | Pyraperm Dusting Powder | Piperonyl Butoxide Pyrethrins Permethrin
073049-00312 | Pyraperm Dust Concentrate | Piperonyl Butoxide Pyrethrins Permethrin
073049-00313 | Tetraperm Crawling Insect Killer | Permethrin
073049-00314 | Tetraperm Dual Action Ant and Roach Killer | Permethrin
073049-00315 | Tetraperm (16-40) O-B Concentrate | Permethrin
073049-00316 | Pyraperm (7.5-15-37.5) O-B Concentrate | Piperonyl Butoxide Pyrethrins Permethrin
073049-00321 | Pyraperm Insect Killer WBA N65 | Piperonyl Butoxide Pyrethrins Permethrin
073049-00322 | Pyraperm Insect Killer WBA N66 | Piperonyl Butoxide Pyrethrins Permethrin
073049-00323 | Pyraperm Insect Killer WBA N67 | Piperonyl Butoxide Pyrethrins Permethrin
073049-00324 | Pyraperm Insect Killer WBA N67A | Piperonyl Butoxide Pyrethrins Permethrin
073049-00325 | Pyraperm (6-3-30) W-B Concentrate | Piperonyl Butoxide Pyrethrins Permethrin
073049-00326 | Permanone Aqueous Indoor Fogger | Permethrin
073049-00327 | Pyraperm Aqueous Crawling Insect Killer | Piperonyl Butoxide Pyrethrins Permethrin
073049-00328 | Tetraperm Crawling Insect Killer II | Permethrin
073049-00335 | Pyraperm Household Dusting Powder | Piperonyl Butoxide Pyrethrins Permethrin
073049-00336 | Permanone Household Dusting Powder | Piperonyl Butoxide Permethrin
073049-00340 | Permanone WSB | Permethrin
073049-00341 | Permanone 25 WP | Permethrin
073049-00353 | Permanone 25 WP | Permethrin
073049-00364 | Intercept H & G Insect Control | Permethrin
073049-00369 | Permanone 0.2% RTU H & G Insect Control | Permethrin
073049-00370 | Pyrenone Aerosol Concentrate 40-5 | Piperonyl Butoxide Pyrethrins
073049-00373 | Dairy & Livestock Spray | Piperonyl Butoxide Pyrethrins
073049-00375 | Industrial Aqueous Pressurized 4.0-0.5 | Piperonyl Butoxide Pyrethrins
073049-00376 | Pyrenone Garden Dust | Piperonyl Butoxide Pyrethrins
073049-00377 | Pyrenone Garden Spray Concentrate | Piperonyl Butoxide Pyrethrins
073825-00006 | Ecosmart Household Insect Killer | Piperonyl Butoxide

Table 2 includes the names and addresses of record for all registrants of the products in Table 1, in sequence by EPA company number. This number corresponds to the first part of the EPA registration numbers of the products listed above.

Table 2. —Registrants of Cancelled Products
EPA Co. Number | Company Name and Address
4 | Bonide Products, Inc. Agent Registrations By Design, Inc. P.O. Box 1019 Salem, VA 24153-3805
70 | Value Gardens Supply, LLC D/B/A Garden Value Supply P.O. Box 585 Saint Joseph, MO 64502
88 | Hyponex Corporation (and Subsidiaries) 14111 Scottslawn Road Marysville, OH 43041
192 | Value Gardens Supply, LLC D/B/A Garden Value Supply P.O. Box 585 Saint Joseph, MO 64502
239 | The Scotts Company 14111 Scottslawn Road Marysville, OH 43041
270 | Farnam Companies, Inc. D/B/A Central Life Sciences 301 West Osborn Road Phoenix, AZ 85013
305 | United Industries Corp. d/b/a WPC Brands Inc. P.O. Box 4406 Bridgeton, MO 63044
432 | Bayer Environmental Science 2 T. W. Alexander Drive P.O. Box 12014 Research Triangle Park, NC 27709
478 | Realex P.O. Box 142642 St. Louis, MO 63114-0642
498 | Chase Products Co. P.O. Box 70 Maywood, IL 60153
499 | Whitmire Micro-Gen Research Laboratories, Inc. Agent Name: BASF CORP. 3568 Tree Court Industrial Blvd. St. Louis, MO 63122-6682
506 | Walco Linck Company 30856 Rocky Rd Greeley, CO 80631-9375
572 | Value Gardens Supply, LLC D/B/A Garden Value Supply P.O. Box 585 Saint Joseph, MO 64502
655 | Prentiss, INC. 3600 Mansell Rd, Suite 350 Alpharetta, GA 30022
769 | Value Gardens Supply, LLC P.O. Box 585 Saint Joseph, MO 64502
829 | Southern Ag Insecticides Ag-Chem Consulting 12208 Quinque Lane Clifton, VA 20124
1015 | Douglas Products and Packaging Co. D/B/A Douglas Products and Packaging 4110 136th Street, Northwest Gig Harbor, WA 98332
1021 | Douglas Products and Packaging Co. D/B/A Douglas Products and Packaging 4110 136th Street, Northwest Gig Harbor, WA 98332
1203 | Delta Foremost Chemical Corp 3915 Air Park St. Memphis, TN 38118
1270 | ZEP Inc. 1310 Seaboard Industrial Blvd. NW Atlanta, GA 30318
1381 | Winfield Solutions, LLC P.O. Box 64589 St. Paul, MN 55164-0589
1903 | Eight in One Pet Products, Inc. 1377 Motor Parkway, Suite 100 Islandia, NY 11749
2596 | The Hartz Mountain Corp. 400 Plaza Drive Secaucus, NJ 07094
2724 | Wellmark International 1501 E. Woodfield Rd, Suite 200 West Schaumburg, IL 60173
2935 | Wilbur-Ellis Company P.O. Box 1286 Fresno, CA 93715
4713 | Paul A. Keane & Associates P.O. Box 65436 Tucson, AZ 85728
4822 | S.C. Johnson & Son, Inc. 1525 Howe St. Racine, WI 53403
5481 | Amvac Chemical Corporation 4695 MacArthur Court, Suite 1250 Newport Beach, CA 92660
5887 | Value Gardens Supply, LLC D/B/A Garden Value Supply P.O. Box 585 Saint Joseph, MO 64502
7401 | Voluntary Purchasing Group, Inc. 230 FM 87 Bonham, TX 75418-8629
8329 | Clarke Mosquito Control Products, Inc. P.O. Box 72197 Roselle, IL 60172
8660 | United Industries Corp. d/b/a Sylorr Plant Corp P.O. Box 14642 St. Louis, MO 63114-0642
9444 | Waterbury Companies, Inc. 129 Calhoun St. P.O. Box 640 Independence, LA 70443
9688 | Chemsico Div of United Industries Corp P.O. Box 142642 St Louis, MO 63114-0642
9779 | Agriliance, LLC P.O. Box 64089 St. Paul, MN 55164-0089
10163 | Gowan Company P.O. Box 5569 Yuma, AZ 85366-5569
10806 | Contact Industries Div. of Safeguard Chemical Corp 411 Wales Ave Bronx, NY 10454
28293 | Phaeton Corporation Agent Registrations By Design, Inc P.O. Box 1019 Salem, VA 24153
34704 | Loveland Products, Inc. P.O. Box 1286 Greeley, CO 80632-1286
40208 | Lawson Products, Inc. D/B/A Drummond, A Lawson Brand 600 Corporate Woods Parkway Vernon Hills, IL 60061-3165
46515 | Celex Div. of United Industries Corp. P.O. Box 142642 St Louis, MO 63114-0642
47000 | Chem-Tech, LTD. 4515 Fleur Dr. #303 Des Moines, IA 50321
53883 | Control Solutions, Inc. 427 Hide Away Circle Cub Run, Kentucky 42729
67425 | Ecosmart Technologies, Inc. Technology Sciences Group, Inc. 1150 18th St., NW., Suite 1000 Washington, DC 20036
67603 | Sherwin Williams Diversified Brands 101 Prospect Ave. Cleveland, OH 44115
67760 | Cheminova, Inc. Washington Office 1600 Wilson Boulevard Suite 700 Arlington, VA 22209
73049 | Valent BioSciences Corporation 870 Technology Way, Suite 100 Libertyville, IL 60048-6316
73825 | Bioganic Safety Brands, Inc. 509 Tower Valley Drive Hillsboro, MO 63050

III. Summary of Public Comments Received and Agency Response to Comments

During the 30-day comment period, EPA received one comment from BioSpotVictims.org commending the registrants for cancelling the products listed in Table 1 and urging the Agency to reassess the risks of all pyrethroid-based spot-on products for pets. Since the comment was in favor of these cancellations, the Agency does not believe that the requests for voluntary cancellation merit further review or denial.

IV. Cancellation Order

Pursuant to FIFRA section 6(f), EPA hereby approves the requested cancellations of the registrations identified in Table 1. Accordingly, the Agency hereby orders that the product registrations identified in Table 1 are canceled. The effective date of the cancellations that are subject of this notice is May 11, 2010. Any distribution, sale, or use of existing stocks of the products identified in Table 1 in a manner inconsistent with any of the Provisions for Disposition of Existing Stocks set forth in Unit VI. will be a violation of FIFRA.

V. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request. The notice of receipt for this action was published for comment on February 3, 2010 (75 FR 5644). The comment period closed on March 5, 2010.

VI. Provisions for Disposition of Existing Stocks

Existing stocks are those stocks of registered pesticide products which are currently in the United States and which were packaged, labeled, and released for shipment prior to the effective date of the cancellation action. The existing stocks provision for the pesticides subject to this order is as follows.

The registrants may continue to sell and distribute existing stocks of products listed in Table 1 until May 11, 2011, which is 1 year after the publication of the Cancellation Order in the Federal Register. Thereafter, the registrants are prohibited from selling or distributing products listed in Table 1, except for export in accordance with section 17 of FIFRA, or proper disposal. Persons other than the registrant may sell, distribute, or use existing stocks of products listed in Table 1 until existing stocks are exhausted, provided that such sale, distribution, or use is consistent with the terms of the previously approved labeling on, or that accompanied, the canceled products.

List of Subjects

Environmental protection, Pesticides and pests.

Dated: April 30, 2010.
Richard P. Keigwin, Jr.,
Director, Pesticide Re-evaluation Division, Office of Pesticide Programs.

[FR Doc. 2010-11142 Filed 5-10-2010; 8:45 am]

BILLING CODE 6560-50-S